ENVIRONMENTAL PROTECTION AGENCY

40 CFR Part 180

[EPA-HQ-OPP-2002-0043; FRL-8064-3 ]

Pesticide Tolerance Nomenclature Changes; Technical Amendment

AGENCY: Environmental Protection Agency (EPA).

ACTION: Direct Final rule; technical amendment.

SUMMARY: This document makes minor revisions to the terminology of certain commodity terms listed under 40 CFR part 180, subpart C. EPA is taking this action to establish a uniform listing of commodity terms.

DATES: This Direct Final Rule is effective on February 26, 2007 without notice, unless EPA receives adverse comment by February 12, 2007. If EPA receives adverse comments, EPA will publish a Federal Register document to withdraw the direct final rule before the effective date.

If this Direct Final Rule becomes effective any person may file objections and request for hearings on those objections. Objections and requests for hearing must be filed with 60 days of issuance of the final rule. For direct final rules, the date of issuance is considered to be the effective date. Objections and requests for hearings must be received on or before April 27, 2007, and must be filed in accordance with the instructions provided in 40 CFR part 178 (see also Unit I.C. of the SUPPLEMENTARY INFORMATION).

ADDRESSES: EPA has established a docket for this action under docket identification (ID) number EPA-HQ-OPP-2002-0043. All documents in the docket are listed in the index for the docket. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only availablein hard copy, at the OPP Regulatory Public Docket in Rm. S-4400, One Potomac Yard (South Building), 2777 S. Crystal Drive, Arlington, VA. The Docket Facility is open from 8:30 a.m. to 4 p.m., Monday through Friday, excluding legal holidays. The Docket telephone number is (703) 305-5805.

FOR FURTHER INFORMATION CONTACT: Stephen Schaible, Registration Division (7505P), Office of Pesticide Programs, Environmental Protection Agency, 1200 Pennsylvania Ave., NW., Washington, DC 20460-0001; telephone number: (703) 308-9362; e-mail address: schaible.stephen@epa.gov.

SUPPLEMENTARY INFORMATION:

I. General Information

A. Does this Action Apply to Me?

You may be potentially affected by this action if you are an agricultural producer, food manufacturer, or pesticide manufacturer. Potentially affected entities may include, but are not limited to:

• Crop production (NAICS 111), e.g., agricultural workers; greenhouse, nursery, and floriculture workers; farmers.

• Animal production (NAICS 112), e.g., cattle ranchers and farmers, dairy cattle farmers, livestock farmers.

• Food manufacturer (NAICS 311), e.g., agricultural workers; farmers; greenhouse, nursery, and floriculture workers; ranchers; pesticide applicators.

• Pesticide manufacturer (NAICS 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this “Federal Register” document electronically through the EPA Internet under the “Federal Register” listings at http://www.epa.gov/fedrgstr. You may also access a frequently updated electronic version of 40 CFR part 180 through the Government Printing Office's pilot e-CFR site at http://www.gpoaccess.gov/ecfr. To access the OPPTS Harmonized Guidelines referenced in this document, go directly to the guidelines at http://www.epa.gpo/opptsfrs/home/guidelin.htm.

C. Can I File an Objection or Hearing Request?

Under section 408(g) of the FFDCA, as amended by the FQPA, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2002-0043 in the subject line on the first page of your submission. All requests must be in writing, and must be mailed or delivered to the Hearing Clerk on or before February 12, 2007.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2002-0043, by one of the following methods.

• Federal eRulemaking Portal: http://www.regulations.gov. Follow the on-line instructions for submitting comments.

• Mail. Office of Pesticide Programs (OPP) Regulatory Public Docket (7502P), Environmental Protection Agency, 1200 Pennsylvania Ave., NW., Washington, DC 20460-0001.

• Delivery. OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

II. Background

EPA's Office of Pesticide Programs (OPP) has developed a commodity vocabulary data base entitled “Food and Feed Commodity Vocabulary.” The data base was developed to consolidate all the major OPP commodity vocabularies into one standardized vocabulary. As a result, all future pesticide tolerances issued under 40 CFR part 180 will use the “preferred commodity term” as listed in the aforementioned data base. This is the fifth in a series of documents revising the terminology of commodity terms currently in tolerances in 40 CFR part 180. Final rules, revising pesticide tolerance nomenclature, were published in the Federal Register on June 19, 2002 (67 FR 41802) (FRL-6835-2); June 21, 2002 (67 FR 42392) (FRL-7180-1), on July 1, 2003(68 FR 39428) (FRL-7308-9), and (68 FR 39435) (FRL-7316-9).

A. What Action is the Agency Taking?

In this rule, EPA is making the following format changes to the terminology of the commodity terms in 40 CFR part 180 to the extent the terminology is not already in this format:

1. The first letter of the commodity term is capitalized. All other letters, including the first letter of proper names, are changed to lower case.

2. Commodity terms are listed in the singular although there are the following exceptions: “leaves”, “roots”, “tops”, “greens”, “hulls”, “vines”, “fractions”, “shoots”, and “byproducts”.

3. Commodity terms are amended so that generic terms, such as “corn” and “pea”, precede modifying terms, such as “field”, “dry” and “summer”.

4. Parentheses are replaced with commas. Example: “Pea (succulent)” is replaced with “Pea, succulent”.

6. Crop group terms are revised to standardize with the “Food and Feed Vocabulary”. Examples:

i. “Brassica, leafy” is replaced with “Vegetable, brassica, leafy, group 5”.

ii. “Fruit, citrus group is replaced with “Fruit, citrus, group 10”.

iii. “Leafy vegetables (except Brassica)” is replaced with “Vegetable, leafy, except brassica, group 4”.

iv. “Vegetable, brassica, head and stem, subgroup 5a” is replaced with “Brassica, head and stem, subgroup 5A”.

v. “Tree nut” is replaced with “Nut, tree, group 14”.

B. Additional Changes

In addition to format changes to the commodity terms, this document also includes many revisions to the commodity terms. These revisions replace certain commodity terms that are no longer used by EPA with the appropriate matching term in the “Food and Feed Commodity Vocabulary”. For example, “Alfalfa, fresh ' is replaced with “Alfalfa, forage”, “Barley, fodder” is replaced with “Barley, straw”. “Bean, dried” is replaced with “Bean, dry, seed”. “Cottonseed” and “Cotton seed” are replaced with “Cotton, undelinted seed”. “Dry bulb onion” is replaced with “Onion, bulb”. “Coffee bean” is replaced with “Coffee, bean, green”.

“Corn, sweet, kernal plus cob with husks removed”; “Corn, sweet, kernel + cob with husks removed”; “Corn sweet, kernels plus cob with husks removed”; “Corn, fresh, kernel plus cob with husks removed”; “Corn, fresh (including sweet), kernel plus cob with husks removed”; “Corn, fresh (inc. sweet, kernel plus cob with husks removed)” and “Sweet corn, kernel plus cob with husks removed” are replaced with the term “Corn, sweet, kernel plus cob with husks removed”.

This document also deletes certain terms that are not needed to identify the tolerance commodities.

Examples:

i. The terms “nutmeat” and “nutmeats” when used in association with the tree nut crops or peanut are not needed. For tree nut crops, nutmeat and almond hulls are the only edible portions of the crop consumed. Therefore, OPP's Food and Feed Commodity Vocabulary uses the commodity terms “Almond”, “Pecan”, “Walnut”, etc. for the tree nuts and the commodity term “Peanut” is used in place of “Peanut, nutmeat”. Since “almond hulls” are fed to livestock, tolerances may be established for “Almond, hulls”.

ii. The term “Endive (escarole)” is changed to “Endive” since the term “Endive” includes escarole.

iii. The term “Blueberry (huckleberry)” is changed to “Blueberry” since the term “Blueberry” includes huckleberries.

iv. The term “Banana (whole)” is changed to “Banana” since the “Food and Feed Vocabulary” uses the term “Banana” to refer to the whole banana.

III. Statutory and Executive Order Reviews

This final rule makes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's final rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999).Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government andIndian tribes.” This final rule will not have substantial direct effects on tribal governments, on the relationship between the Federal Government and Indian tribes, or on the distribution of power and responsibilities between the Federal Government and Indian tribes, as specified in Executive Order 13175. Thus, Executive Order 13175 does not apply to this final rule.

IV. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

Lists of Subjects in 40 CFR Part 180

Environmental protection, Administrative practice and procedure,Agricultural commodities, Pesticides and pest, Reporting and recordkeeping requirements.

Dated: December 1, 2006.
James Jones,
Director, Office of Pesticide Programs.

Therefore, 40 CFR chapter I, part 180 is amended as follows:

PART 180—[AMENDED]

1. The authority citation for part 180 continues to read as follows:

Authority: 21 U.S.C. 321(q), 346a and 371.

2. Part 180, subpart C is amended as follows:

In Section | In Paragraph | Remove the term | Add in its place the term
180.103 | (a) table | Blueberry (huckleberry) | Blueberry
180.103 | (a) table | Cantaloups | Cantaloupe
180.103 | (a) table | Onion, dry bulb | Onion, bulb
180.106 | (a) table | Pea, field vines | Pea, field, vines
180.106 | (a) table | Peppermint, hay | Peppermint, tops
180.106 | (a) table | Trefoil, birdsfoot, forage | Trefoil, forage
180.106 | (a) table | Trefoil, birdsfoot, hay | Trefoil, hay
180.110 | (a) table | Bean (dry form) | Bean, dry, seed
180.110 | (a) table | Endive (escarole) | Endive
180.110 | (a) table | Sweet corn, kernel plus cob with husks removed | Corn, sweet, kernel plus cob with husks removed
180.111 | (a)(1) table | Dates | Date
180.111 | (a)(1) table | Flax seed | Flax, seed
180.111 | (a)(1) table | Pecans | Pecan
180.111 | (a)(1) table | Peanut, forage | Peanut, hay
180.111 | (a)(1) table | Peavines | Pea, field, vines
180.111 | (a)(1) table | Trefoil, birdsfoot, forage | Trefoil, forage
180.111 | (a)(1) table | Trefoil, birdsfoot, hay | Trefoil, hay
180.114 | (a) table | Blueberry (huckleberry) | Blueberry
180.117 | table | Vegetables, leafy | Vegetable, leafy
180.117 | table | Vegetables, root crop | Vegetable, root
180.117 | table | Vegetables, seed and pod | Vegetable, seed and pod
180.121 | (a) table | Alfalfa, fresh | Alfalfa, forage
180.121 | (a) (table | Almond, hull | Almond, hulls
180.121 | (a) table | Bean, dried | Bean, dry, seed
180.121 | (a) table | Cotton, seed | Cotton, undelinted seed
180.121 | (a) table | Pea, field vines | Pea, field, vines
180.121 | (e) table | Trefoil, birdsfoot, forage | Trefoil, forage
180.121 | (e) table | Trefoil, birdsfoot, hay | Trefoil, hay
180.122 | (a) table | Alfalfa, fresh | Alfalfa, forage
180.122 | (a) table | Cotton, seed | Cotton, undelinted seed
180.142 | (a)(3) table | Leafy vegetables | Vegetable, leafy
180.142 | (a)(3) table | Root crop vegetables | Vegetable, root
180.142 | (a)(3) table | Seed and pod vegetables | Vegetable, seed and pod
180.142 | (a)(3) table | Small fruit | Fruit, small
180.142 | (a)(12)(i) and (a)(13)(i) | Sugarcane molasses | Sugarcane, molasses
180.142 | (a)(13)(iii) introductory text | potable water | water, potable
180.142 | (b) introductory text and (b) table | Wild rice | Rice, wild, grain
180.154 | (a) table | Trefoil, birdsfoot, hay | Trefoil, hay
180.163 | (a) table | Bean (dry form) | Bean, dry, seed
180.163 | (a) table | Cantaloups | Cantaloupe
180.163 | (a) table | Pecans | Pecan
180.163 | (a) table | Spearmint, hay | Spearmint, tops
180.169 | (a)(1) table | Corn, fresh (including sweet), kernel plus cob with husks removed | Corn, sweet, kernel plus cob with husks removed
180.169 | (a)(1) table | Endive (escarole) | Endive
180.169 | (a)(1) table | Pecans | Pecan
180.169 | (a)(1) table | Peavines | Pea, field, vines
180.169 | (a)(1) table | Trefoil, birdsfoot, forage | Trefoil, forage
180.169 | (a)(1) table | Trefoil, birdsfoot, hay | Trefoil, hay
180.172 | (a) table | Pecans | Pecan
180.176 | (b) table | Ginseng, root | Ginseng
180.182 | (a)(1) table | Alfalfa, fresh | Alfalfa, forage
180.185 | (a) table | Cantaloups | Cantaloupe
180.185 | (a) table | Yams, true, tuber | Yam, true, tuber
180.200 | (a)(1) table | Endive (escarole) | Endive
180.204 | (a) table | Endive (escarole) | Endive
180.204 | (a) table | Pecans | Pecan
180.205 | (a) table | Coffee bean | Coffee, bean, green
180.205 | (a) table | Pea, field vines | Pea, field, vines
180.205 | (a) table | Pea (succulent) | Pea, succulent
180.205 | (a) Table | Small fruit | Fruit, small
180.205 | (c) Table | Yams, true, tuber | Yam, true, tuber
180.206 | (a) table | Coffee bean¹ | Coffee, bean, green¹
180.208 | (a) table | Trefoil, birdsfoot, forage | Trefoil, forage
180.208 | (a) table | Trefoil, birdsfoot, hay | Trefoil, hay
180.213 | (a)(1) table | Corn, fresh (inc. sweet, kernel plus cob with husks removed) | Corn, sweet, kernel plus cob with husks removed
180.213 | (a)(1) table | Pecans | Pecan
180.215 | (a)(1) table | Bean (dry) | Bean, dry, seed
180.215 | (a)(1) table | Pea (succulent) | Pea, succulent
180.220 | (a)(1) table | Corn, fresh, kernel plus cob with husks removed | Corn, sweet, kernel plus cob with husks removed
180.226 | (a)(2)(i) table | Hop, dried cone | Hop, dried cones
180.226 | (a)(2)(i) table | Vegetables, leafy | Vegetable, leafy
180.226 | (a)(2)(i) table | Vegetables, seed and pod | Vegetable, seed and pod
180.227 | (a)(1) table | Sugarcane molasses | Sugarcane, molasses
180.232 | (a) table | Corn, sweet, kernel, plus cob with husks removed | Corn, sweet, kernel plus cob with husks removed
180.236 | table | Pecans | Pecan
180.242 | (a)(1) table | Bean (dry) | Bean, dry, seed
180.249 | table | Corn, fresh, kernel plus cob with husks removed | Corn, sweet, kernel plus cob with husks removed
180.253 | (a) table | Endive (escarole) | Endive
180.253 | (a) table | Hop, dried cone¹ | Hop, dried cones¹
180.253 | (a) table | Pecans | Pecan
180.253 | (a) table | Vegetables, root crop | Vegetable, root
180.254 | (a) table | Alfalfa, fresh (of which no more than 5 ppm are carbamates) | Alfalfa, forage (of which no more than 5 ppm are carbamates)
180.254 | (a) table | Coffee bean | Coffee, bean, green
180.258 | (a) table | Corn, fresh, kernel plus cob with husks removed | Corn, sweet, kernel plus cob with husks removed
180.258 | (a) table | Yams, true, tuber | Yam, true, tuber
180.259 | (a) table | Hop, dried cone | Hop, dried cones
180.259 | (a) table | Peanut, forage | Peanut, hay
180.261 | (a) table | Pea, field vines | Pea, field, vines
180.262 | (a) table | Corn, fresh, kernel plus cob with husks removed | Corn, sweet, kernel plus cob with husks removed
180.269 | (a) table | Bean (dry) | Bean, dry, seed
180.269 | (a) table | Coffee bean | Coffee, bean, green
180.269 | (a) table | Pecans | Pecan
180.274 | (a)(1) table | Rice, polishings | Rice, polished rice
180.274 | (a)(2) table | Rice, polishings | Rice, polished rice
180.275 | (a)(1) table | Bean (dry) | Bean, dry, seed
180.275 | (a)(1) table | Coffee bean | Coffee, bean, green
180.275 | (a)(1) table | Parsnip, root | Parsnip, roots
180.275 | (b) table | Ginseng, root | Ginseng
180.287 | (a) table | Poultry meat byproducts | Poultry, meat byproducts
180.292 | (a)(2) table | Oat, milled fractions (exc flour) | Oat, groats/rolled oats
180.292 | (a)(3) table | Oat, milled fractions (exc flour) | Oat, groats/rolled oats
180.298 | (a) table | Pecans | Pecan
180.300 | (a) table | Coffee bean | Coffee, bean, green
180.303 | (a)(1) table | Peppermint, hay | Peppermint, tops
180.303 | (a)(1) table | Root crop vegetables | Vegetable, root
180.303 | (a)(1) table | Spearmint, hay | Spearmint, tops
180.314 | (a) table | Pea, field vines | Pea, field, vines
180.317 | (a) table | Endive (escarole) | Endive
180.324 | (a)(1) table | Grass, canary, annual, straw | Canarygrass, annual, hay
180.324 | (a)(2) | Cotton gin byproducts | Cotton, gin byproducts
180.328 | (a) table | Coffee bean | Coffee, bean, green
180.330 | (a) table | Corn, fresh, kernel plus cob with husks removed | Corn, sweet, kernel plus cob with husks removed
180.339 | (a) table | Grass, canary, annual, straw | Canarygrass, annual, hay
180.339 | (a) table | Peavines | Pea, field, vines
180.339 | (a) table | Vegetables, seed and pod | Vegetable, seed and pod
180.342 | (a)(1) table | Corn, fresh (inc. sweet, kernel plus cob with husks removed) | Corn, sweet, kernel plus cob with husks removed
180.342 | (a)(1) table | Tree nut | Nut, tree, group 14
180.342 | (a)(2) table | Soybean forage | Soybean, forage
180.350 | (a) table | Corn, fresh, kernel plus cob with husks removed | Corn, sweet, kernel plus cob with husks removed
180.356 | (a) table | Hop, dried cone | Hop, dried cones
180.356 | (a) table | Hop, vine | Hop, vines
180.356 | (a) table | Pecans | Pecan
180.362 | (a) table | Milk fat | Milk, fat
180.362 | (a) table | Pecans | Pecan
180.368 | (a)(1) table | Barley, fodder | Barley, straw
180.368 | (a)(1) table | Corn, fresh, kernel plus cob with husks removed | Corn, sweet, kernel plus cob with husks removed
180.368 | (a)(3) table | Vegetable, brassica, head and stem, subgroup 5A | Brassica, head and stem, subgroup 5A
180.371 | (a) table | Pecans | Pecan
180.378 | (b) table | Alfalfa, fresh | Alfalfa, forage
180.378 | (b) table | Leafy vegetables (except Brassica) | Vegetable, leafy, except brassica, group 4
180.378 | (c) table | Milk fat (reflecting 0.25 ppm in whole milk) | Milk, fat (reflecting 0.25 ppm in whole milk)
180.379 | (a)(1) table | Bean, dried | Bean, dry, seed
180.379 | (a)(1) table | Caneberries | Caneberry subgroup 13A
180.379 | (a)(1) table | Pecans | Pecan
180.381 | (a) table | Dates | Date
180.399 | (a)(1) table | Caneberries | Caneberry subgroup 13A
180.399 | (a)(1) table | Ginseng, root | Ginseng
180.401 | (b) table | Endive (escarole) | Endive
180.408 | (a) table | Ginseng, root | Ginseng
180.408 | (a) table | Hop, dried cone | Hop, dried cones
180.408 | (a) table | Hop, viine | Hop, vines
180.408 | (a) table | Soybean, grain | Soybean, seed
180.408 | (d) table | Barley, fodder | Barley, straw
180.411 | (a)(2) table | Pecans | Pecan
180.412 | (a) table | Pea, field vines | Pea, field, vines
180.412 | (a) table | Tree nut | Nut, tree, group 14
180.414 | (a)(1) table | Leafy vegetables (except Brassica) | Vegetable, leafy, except brassica, group 4
180.414 | (d) table | Corn, sweet, kernels plus cob with husks removed | Corn, sweet, kernel plus cob with husks removed
180.415 | (a) table | Caneberries | Caneberry subgroup 13A
180.415 | (a) table | Ginseng, root | Ginseng
180.415 | (a) table | Hop, dried cone | Hop, dried cones
180.418 | (a)(1) table | Brassica, leafy | Vegetable, brassica, leafy group 5
180.418 | (a)(1) table | Pecans | Pecan
180.418 | (a)(2) table | Brassica, leafy | Vegetable, brassica, leafy group 5
180.418 | (a)(2) table | Pecans | Pecan
180.420 | (c) table | Leafy vegetables | Vegetable, leafy
180.420 | (c) table | Seed and pod vegetables | Vegetable, seed and pod
180.420 | (c) table | Small fruit | Fruit, small
180.425 | (a) table | Pea (succulent) | Pea, succulent
180.431 | (a) table | Barley, forage | Barley, hay
180.434 | (c) table | Rice, wild | Rice, wild, grain
180.435 | (a)(1) table | Almond hulls | Almond, hulls
180.435 | (a)(1) table | Corn, sweet, kernel + cob with husks removed | Corn, sweet, kernel plus cob with husks removed
180.436 | (a)(1) table | Cotton, seed | Cotton, undelinted seed
180.436 | (a) (1) table | Hop, vine | Hop, vines
180.442 | (a)(1) table | Hop, dried cone | Hop, dried cones
180.443 | (a) table | Almond nutmeat | Almond
180.443 | (a) table | Cotton seed | Cotton, undelinted seed
180.443 | (a) table | Raisins | Grape, raisin
180.443 | (b) table | Hop, dried cone | Hop, dried cones
180.449 | (a) table | Cotton gin byproducts | Cotton, gin byproducts
180.449 | (a) table | Cotton seed | Cotton, undelinted seed
180.449 | (a) table | Hop, dried cone | Hop, dried cones
180.450 | (a) table | Banana (whole)¹ | Banana¹
180.450 | (a) table | Corn, fresh (including sweet), kernel plus cob with husks removed | Corn, sweet, kernel plus cob with husks removed
180.457 | Table | Banana (whole) | Banana
180.458 | (a)(3) table | Leafy petioles subgroup 4B | Leaf petioles subgroup 4B
180.464 | (a) table | Corn, sweet, kernal plus cob with husks removed | Corn, sweet, kernel plus cob with husks removed
180.464 | (a) table | Tuberous and corm vegetables | Vegetable, tuberous and corm, subgroup 1C
180.467 | Table | Almond nutmeat | Almond
180.470 | Table | Soybean, grain | Soybean, seed
180.472 | (a) table | Hop, dried cone | Hop, dried cones
180.472 | (a) table | Pecans | Pecan
180.472 | (d) table | Sweet corn, kernel plus cob with husks removed | Corn, sweet, kernel plus cob with husks removed
180.474 | (b)(1) table | Sunflower, oil | Sunflower, refined oil
180.474 | (b)(2) table | Eggs | Egg
180.478 | (a) table | Potato, tubers | Potato
180.479 | (a)(2) table | Corn, sweet, kernel + cob with husks removed | Corn, sweet, kernel plus cob with husks removed
180.479 | (a)(2) table | Cotton, gin by-products | Cotton, gin byproducts
180.479 | (a)(2) table | Vegetables, fruiting, group 8 | Vegetable, fruiting, group 8
180.482 | (a)(1) table | Citrus oil | Citrus, oil
180.482 | (a)(1) table | Leafy petioles subgroup 4B | Leaf petioles subgroup 4B
180.484 | (a)(1) table | Peanut hay | Peanut, hay
180.487 | (a) table | Cotton gin byproducts | Cotton, gin byproducts
180.489 | (a) table | Corn, sweet, kernels plus cob with husks removed (of which no more than 0.10 ppm is TMS) | Corn, sweet, kernel plus cob with husks removed (of which no more than 0.10 ppm is TMS)
180.489 | (a) table | Cotton, gin by-products (of which no more than 35 ppm is TMS) | Cotton, gin byproducts (of which no more than 35 ppm is TMS)
180.489 | (a) Table | Fruit, citrus group | Fruit, citrus, group 10
180.490 | (a)(1) table | Peanut nutmeat | Peanut
180.495 | (a) table | Cotton gin byproducts | Cotton, gin byproducts
180.495 | (a) table | Fruit, citrus group | Fruit, citrus, group 10
180.500 | (a) table | Goats, fat | Goat, fat
180.500 | (a) table | Goats, kidney | Goat, kidney
180.500 | (a) table | Goats, meat | Goat, meat
180.500 | (a) table | Horses, fat | Horse, fat
180.500 | (a) table | Horses, meat | Horse, meat
180.505 | (a)(1) table | Cotton, gin byproduct | Cotton, gin byproducts
180.506 | (a) table | Cotton gin byproducts | Cotton, gin byproducts
180.507 | (a)(1) table | Hops, dried cones | Hop, dried cones
180.507 | (a)(1) table | Pecans | Pecan
180.507 | (a)(1) table | Tree nut | Nut, tree, group 14
180.510 | (a)(1) table | Black sapote | Sapote, black
180.510 | (a)(1) table | Logan | Loganberry
180.510 | (a)(1) table | Mamey sapote | Sapote, mamey
180.510 | (a)(1) table | Tree nut | Nut, tree, group 14
180.511 | (a) table | Black sapote | Sapote, black
180.511 | (a) table | Fruit, pome, Crop Group 11 | Fruit, pome, group 11
180.511 | (a) table | Logan | Loganberry
180.511 | (a) table | Mamey sapote | Sapote, mamey
180.513 | (a)(1) table | Vegetables, fruiting, group 8 | Vegetable, fruiting, group 8
180.515 | (a) table | Almond, hull | Almond, hulls
180.515 | (a) table | Hops, dried cones | Hop, dried cones
180.515 | (a) table | Vegetable, cucurbit, group 09 | Vegetable, cucurbit, group 9
180.515 | (b) table | Hop, dried cone | Hop, dried cones
180.516 | (a) table | Cotton gin byproducts | Cotton, gin byproducts
180.516 | (a) table | Peanut hay | Peanut, hay
180.517 | (a) table | Hog Meat | Hog, meat
180.517 | (a) table | Poultry Meat Byproducts | Poultry, meat byproducts
180.518 | (a)(1) table | Citrus oil | Citrus, oil
180.535 | (a) table | Barley, forage | Barley, hay
180.543 | (a) table | Peanut nutmeat | Peanut
180.544 | (a)(1) table | Black sapote | Sapote, black
180.544 | (a)(1) table | Corn, sweet, kernal plus cob with husks removed | Corn, sweet, kernel plus cob with husks removed
180.544 | (a)(1) table | Mamey sapote | Sapote, mamey
180.547 | (a) table | Peanut hay | Peanut, hay
180.553 | (a) table | Almond, hull | Almond, hulls
180.555 | (a) table | Hop, dried cone | Hop, dried cones
180.555 | (a) table | Peanut hay | Peanut, hay
180.555 | (a) table | Potato, tubers | Potato
180.556 | (a) table | Cotton gin byproducts | Cotton, gin byproducts
180.556 | (a) table | Hop, dried cone | Hop, dried cones
180.556 | (a) table | Pecans | Pecan
180.561 | (a) table | Leafy vegetables | Vegetable, leafy
180.564 | (a)(1) table | Cotton gin byproducts | Cotton, gin byproducts
180.565 | (a) table | Corn, sweet, kernal plus cob with husks removed | Corn, sweet, kernel plus cob with husks removed
180.565 | (a) table | Hog meat | Hog, meat
180.565 | (a) table | Pecans | Pecan
180.565 | (b) table | Bean, dried | Bean, dry, seed
180.568 | (a) table | Cottonseed | Cotton, undelinted seed
180.572 | (a)(1) table | Hop, dried cone | Hop, dried cones
180.575 | (a)(1) table | Barley, pearled, postharvest | Barley, pearled barley, postharvest
180.575 | (a)(1) table | Cocoa bean, postharvest | Cacao bean, roasted bean, postharvest
180.575 | (a)(1) table | Corn pop, grain, postharvest | Corn, pop, grain, postharvest
180.575 | (a)(1) table | Corn, aspirated grain fractions, postharvest | Grain, aspirated fractions, postharvest
180.575 | (a)(1) table | Cottonseed, postharvest | Cotton, undelinted seed, postharvest
180.575 | (a)(1) table | Eggs, dried | Egg, dried
180.575 | (a)(1) table | Ham | Hog, meat
180.575 | (a)(1) table | Herbs and spices, group 19, postharvest | Herbs and spices group 19, postharvest
180.575 | (a)(1) table | Oat, rolled, postharvest | Oat, groats/rolled oats, postharvest
180.575 | (a)(1) table | Rice, polished, postharvest | Rice, polished rice, postharvest
180.575 | (a)(1) table | Vegetables, legume, group 6, postharvest | Vegetable, legume, group 6, postharvest
180.578 | (a)(1) table | Fruit, citrus group | Fruit, citrus, group 10
180.578 | (a)(1) table | Tuberous and corm vegetables | Vegetable, tuberous and corm, group 1
180.579 | (a)(1) table | Vegetable, cucurbit, group 09 | Vegetable, cucurbit, group 9
180.585 | (a) table | Cotton, gin byproduct | Cotton, gin byproducts
180.589 | (a)(1) table | Almond hulls | Almond, hulls
180.589 | (a)(1) table | Vegetable, legume, succulent shelled pea and bean, subgroup 6B, except cowpea | Pea and bean, succulent shelled, subgroup 6B, except cowpea
180.589 | (d) table | Flax seed | Flax, seed
180.592 | (a)(2) table | Goats, kidney | Goat, kidney
180.592 | (a)(2) table | Goats, liver | Goat, liver
180.598 | (a) table | Eggs | Egg
180.607 | (a)(1) table | Vegetable, brassica, head and stem, subgroup 5A | Brassica, head and stem, subgroup 5A
180.608 | (a)(1) table | Fruit, citrus, crop group 10 | Fruit, citrus, group 10
180.608 | (a)(1) table | Fruit, pome, crop group 11 | Fruit, pome, group 11
180.608 | (a)(1) table | Fruit, stone, crop group 12 | Fruit, stone, group 12
180.608 | (a)(1) table | Nut, tree, crop group 14 | Nut, tree, group 14

3. Section 180.123 is revised to read as follows:

§ 180.123 Inorganic bromide residues resulting from fumigation with methyl bromide; tolerances for residues.

(a) General. (1) Tolerances are established for residues of inorganic bromides (calculated as Br) in or on the following food commodities which have been fumigated with the antimicrobial agent and insecticide methyl bromide after harvest (with the exception of strawberry):

Commodity | Parts per million
Alfalfa, hay, postharvest | 50.0
Almond, postharvest | 200.0
Apple, postharvest | 5.0
Apricot, postharvest | 20.0
Artichoke, jerusalem, postharvest | 30.0
Asparagus, postharvest | 100.0
Avocado, postharvest | 75.0
Barley, grain, postharvest | 50.0
Bean, lima, postharvest | 50.0
Bean, postharvest | 50.0
Bean, snap, succulent, postharvest | 50.0
Bean, succulent, postharvest | 50.0
Beet, garden, roots, postharvest | 30.0
Beet, sugar, roots, postharvest | 30.0
Blueberry, postharvest | 20.0
Butternut, postharvest | 200.0
Cabbage, postharvest | 50.0
Cantaloupe, postharvest | 20.0
Carrot, roots, postharvest | 30.0
Cashew, postharvest | 200.0
Cherry, sweet, postharvest | 20.0
Cherry, tart, postharvest | 20
Chestnut, postharvest | 200.0
Cippolini, bulb, postharvest | 50.0
Citron, citrus, postharvest | 30.0
Cacao bean, roasted bean, postharvest | 50.0
Coconut, copra, postharvest | 100.0
Coffee, bean, green, postharvest | 75.0
Corn, field, grain, postharvest | 50.0
Corn, pop, postharvest | 240.0
Corn, sweet, kernel plus cob with husks removed, postharvest | 50.0
Cotton, undelinted seed, postharvest | 200.0
Cucumber, postharvest | 30.0
Cumin, seed, postharvest | 100.0
Eggplant, postharvest | 20.0
Garlic, postharvest | 50.0
Ginger, roots, postharvest | 100.0
Grapefruit, postharvest | 30.0
Grape, postharvest | 20.0
Hazelnut, postharvest | 200.0
Horseradish, postharvest | 30.0
Kumquat, postharvest | 30.0
Lemon, postharvest | 30.0
Lime, postharvest | 30.0
Mango, postharvest | 20.0
Melon, honeydew, postharvest | 20.0
Muskmelon, postharvest | 20.0
Nectarine, postharvest | 20.0
Nut, brazil, postharvest | 200.0
Nut, hickory, postharvest | 200.0
Nut, macadamia, postharvest | 200.0
Oat, postharvest | 50.0
Okra, postharvest | 30.0
Onion, bulb, postharvest | 20.0
Onion, green, postharvest | 20.0
Orange, postharvest | 30.0
Papaya, postharvest | 20.0
Parsnip, roots, postharvest | 30.0
Peach, postharvest | 20.0
Peanut, postharvest | 200.0
Pear, postharvest | 5.0
Pea, blackeyed, postharvest | 50.0
Pea, postharvest | 50.0
Pecan, postharvest | 200.0
Pepper, postharvest | 30.0
Pimento, postharvest | 30.0
Pineapple, postharvest | 20.0
Pistachio, postharvest | 200.0
Plum, postharvest | 20.0
Pomegranate, postharvest | 100.0
Potato, postharvest | 75.0
Pumpkin, postharvest | 20.0
Quince, postharvest | 5.0
Radish, postharvest | 30.0
Rice, grain, postharvest | 50.0
Rutabaga, roots, postharvest | 30.0
Rutabaga, tops, postharvest | 30.0
Rye, grain, postharvest | 50.0
Salsify, roots, postharvest | 30.0
Sorghum, grain, grain, postharvest | 50.0
Soybean, postharvest | 200.0
Squash, summer, postharvest | 30.0
Squash, winter, postharvest | 20.0
Squash, zucchini, postharvest | 20.0
Strawberry, postharvest | 60.0
Sweet potato, postharvest | 75.0
Tangerine, postharvest | 30.0
Timothy, hay, postharvest | 50.0
Tomato, postharvest | 20.0
Turnip, roots, postharvest | 30.0
Walnut, postharvest | 200.0
Watermelon, postharvest | 20.0
Wheat | 50.0

(2) Inorganic bromide may be present as a residue in certain processed food in accordance with the following conditions:

(i) When inorganic bromide residues are present as a result of fumigation of the processed food with methyl bromide or from such fumigation in addition to the authorized use of methyl bromide on the source raw agricultural commodity, as provided for in this part, the total residues of inorganic bromides (calculated as Br) shall not exceed the following levels:

(A) 400 parts per million in or on egg, dried and herb, processed and spice.

(B) 325 parts per million in or on cheese, parmesan and cheese, roquefort cheese.

(C) 250 parts per million in or on tomato, concentrated products and fig, dried fruit.

(D) 125 parts per million in or on processed food other than those listed above.

(ii) When inorganic bromide residues are present in malt beverage, fermented in accordance with 21 CFR 172.730(a)(2), the amount shall not exceed 25 parts per million (calculated as Br).

(iii) Where tolerances are established on both the raw agricultural commodities and processed food made therefrom, the total residues of inorganic bromides in or on the processed food shall not be greater than those designated in paragraph (a)(2) of this section, unless a higher level is established elsewhere in this part.

(3) Tolerances are established for residues of inorganic bromides (calculated as Br) as follows:

(i) 400 parts per million for residues in or on dog food, resulting from fumigation with methyl bromide.

(ii) 125 parts per million for residues in or on processed commodities for animal feedstuffs from barley, corn, grain sorghum, oat, rice, rye and wheat, resulting directly from fumigation with methyl bromide or from carryover and concentration of residues of inorganic bromides from fumigation of the grains with methyl bromide.

(b) Section 18 emergency exemptions. [Reserved]

(c) Tolerances with regional registrations. A tolerance with regional registration, as defined in § 180.1(n), is established for residues of inorganic bromides (calculated as Br) in or on the following food commodity grown in soil fumigated with methyl bromide.

Commodity | Parts per million
Ginger, roots, postharvest | 100

(d) Indirect or inadvertent residues. [Reserved]

4. Section 180.127 is revised to read as follows:

§ 180.127 Piperonyl butoxide; tolerances for residues.

(a) General. (1) Tolerances for residues of the insecticide piperonyl butoxide [(butyl carbityl)(6-propyl piperonyl)ether] are established in or on the following food commodities:

Commodity | Parts per million
Almond, postharvest | 8
Apple, postharvest | 8
Barley, postharvest | 20
Bean, postharvest | 8
Birdseed, mixtures, postharvest | 20
Blackberry, postharvest | 8
Blueberry, postharvest | 8
Boysenberry, postharvest | 8
Buckwheat, grain, postharvest | 20
Cattle, fat | 0.1
Cattle, meat byproducts | 0.1
Cattle, meat | 0.1
Cherry, sweet, postharvest | 8
Cherry, tart, postharvest | 8
Cacoa bean, roasted bean, postharvest | 8
Coconut, copra, postharvest | 8
Corn, field, grain, postharvest | 20
Corn, pop, postharvest | 20
Cotton, undelinted seed, postharvest | 8
Crabapple, postharvest | 8
Currant, postharvest | 8
Dewberry, postharvest | 8
Egg | 1
Fig, postharvest | 8
Flax, seed, postharvest | 8
Goat, fat | 0.1
Goat, meat byproducts | 0.1
Goat, meat | 0.1
Gooseberry, postharvest | 8
Grape, postharvest | 8
Guava, postharvest | 8
Hog, fat | 0.1
Hog, meat byproducts | 0.1
Hog, meat | 0.1
Horse, fat | 0.1
Horse, meat byproducts | 0.1
Horse, meat | 0.1
Loganberry, postharvest | 8
Mango, postharvest | 8
Milk, fat | 0.25
Muskmelon, postharvest | 8
Oat, postharvest | 8
Orange, postharvest | 8
Peach, postharvest | 8
Peanut, postharvest | 8
Pea, postharvest | 8
Pear, postharvest | 8
Pineapple, postharvest | 8
Plum, prune, fresh, postharvest | 8
Potato, postharvest | 0.25
Poultry, fat | 3
Poultry, meat byproducts | 3
Poultry, meat | 3
Raspberry, postharvest | 8
Rice, postharvest | 20
Rye, postharvest | 20
Sheep, fat | 0.1
Sheep, meat byproducts | 0.1
Sheep, meat | 0.1
Sorghum, grain, postharvest | 8
Sweet potato, postharvest | 0.25
Tomato, postharvest | 8
Walnut, postharvest | 8
Wheat, postharvest | 20

(2) Piperonyl butoxide may be safely used in accordance with the following prescribed conditions:

(i) It is used or intended for use in combination with pyrethrins for control of insects:

(A) In cereal grain mills and in storage areas for milled cereal grain products, whereby the amount of piperonyl butoxide is at least equal to but not more than 10 times the amount of pyrethrins in the formulation.

(B) On the outer ply of multiwall paper bags of 50 pounds or more capacity in amounts not exceeding 60 milligrams per square foot, whereby the amount of piperonyl butoxide is equal to 10 times the amount of pyrethrins in the formulation. Such treated bags are to be used only for food, dried.

(C) On cotton bags of 50 pounds or more capacity in amounts not exceeding 55 milligrams per square foot of cloth, whereby the amount of piperonyl butoxide is equal to 10 times the amount of pyrethrins in the formulation. Such treated bags are constructed with waxed paper liners and are to be used only for food, dried that contain 4 percent fat or less.

(D) In two-ply bags consisting of cellophane/polyolefin sheets bound together by an adhesive layer when it is incorporated in the adhesive. The treated sheets shall contain not more than 50 milligrams of piperonyl butoxide per square foot (538 milligrams per square meter). Such treated bags are to be used only for packaging plum, prune, dried; grape, raisin; and other fruit, dried and are to have a maximum ratio of 3.12 milligrams of piperonyl butoxide per ounce of fruit (0.10 milligram of piperonyl butoxide per gram of product).

(E) In food processing and food storage areas: Provided, That the food is removed or covered prior to such use.

(ii) It is used or intended for use in combination with pyrethrins and N-octylbicycloheptene dicarboximide for insect control in accordance with 21 CFR 178.3730.

(iii) A tolerance of 10 parts per million is established for residues of piperonyl butoxide in or on:

(A) Grain, cereal, milled fractions when present therein as a result of its use in cereal grain mills and in storage areas for milled cereal grain products.

(B) Food, dried when present as a result of migration from its use on the outer ply of multiwall paper bags of 50 pounds or more capacity.

(C) Food treated in accordance with 21 CFR 178.3730.

(D) Food, dried that contain 4 percent fat, or less, when present as a result of migration from its use on the cloth of cotton bags of 50 pounds or more capacity constructed with waxed paper liners.

(E) Food treated in accordance with paragraph (a)(2)(i)(D) and (E) of this section.

(iv) To assure safe use of the pesticide, its label and labeling shall conform to that registered with the U.S. Environmental Protection Agency, and it shall be used in accordance with such label and labeling.

(v) Where tolerances are established on both raw agricultural commodities and processed food made therefrom, the total residues of piperonyl butoxide in or on the processed food shall not be greater than that permitted by the larger of the two tolerances.

(3) Piperonyl butoxide may be safely used in accordance with the following prescribed conditions:

(i) It is used or intended for use in combination with pyrethrins for control of insects:

(A) On the outer ply of multiwall paper bags of 50 pounds or more capacity in amounts not exceeding 60 milligrams per square foot.

(B) On cotton bags of 50 pounds or more capacity in amounts not exceeding 55 milligrams per square foot of cloth. Such treated bags are constructed with waxed paper liners and are to be used only for feed, dried that contain 4 percent fat or less.

(ii) It is used in combination with pyrethrins, whereby the amount of piperonyl butoxide is equal to 10 times the amount of pyrethrins in the formulation. Such treated bags are to be used only for feed, dried.

(iii) A tolerance of 10 parts per million is established for residues of piperonyl butoxide when present as the result of migration:

(A) In or on feed, dried from its use on the outer ply of multiwall paper bags of 50 pounds or more capacity.

(B) In or on feed, dried that contain 4 percent fat, or less, from its use on cotton bags of 50 pounds or more capacity constructed with waxed paper liners.

(iv) To assure safe use of the pesticide, its label and labeling shall conform to that registered with the U.S. Environmental Protection Agency.

(v) Where tolerances are established on both the raw agricultural commodities and food, processed made therefrom, the total residues of piperonyl butoxide in or on the processed food shall not be greater than that permitted by the larger of the two tolerances.

(b) Section 18 emergency exemptions. [Reserved]

(c) Tolerances with regional registrations. [Reserved]

(d) Indirect or inadvertent residues. [Reserved]

5. Section 180.128 is revised to read as follows:

§ 180.128 Pyrethrins; tolerances for residues.

(a) General. (1) Tolerances for residues of the insecticide pyrethrins (insecticidally active principles of Chrysanthemum cinerariaefolium) are established in or on the following food commodities:

Commodity | Parts per million
Almond, postharvest | 1
Apple, postharvest | 1
Barley, postharvest | 3
Bean, postharvest | 1
Birdseed, mixtures, postharvest | 3
Blackberry, postharvest | 1
Blueberry, postharvest | 1
Boysenberry, postharvest | 1
Buckwheat, grain, postharvest | 3
Cattle, fat | 0.1(N)
Cattle, meat byproducts | 0.1(N)
Cattle, meat | 0.1(N)
Cherry, sweet, postharvest | 1
Cherry, tart, postharvest | 1
Cacao bean, roasted bean, postharvest | 1
Coconut, copra, postharvest | 1
Corn, field, grain, postharvest | 3
Corn, pop, grain, postharvest | 3
Cotton, undelinted seed, postharvest | 1
Crabapple, postharvest | 1
Currant, postharvest | 1
Dewberry, postharvest | 1
Egg | 0.1(N)
Fig, postharvest | 1
Flax, seed, postharvest | 1
Goat, fat | 0.1(N)
Goat, meat byproducts | 0.1(N)
Goat, meat | 0.1(N)
Gooseberry, postharvest | 1
Grape, postharvest | 1
Guava, postharvest | 1
Hog, fat | 0.1(N)
Hog, meat byproducts | 0.1(N)
Hog, meat | 0.1(N)
Horse, fat | 0.1(N)
Horse, meat byproducts | 0.1(N)
Horse, meat | 0.1(N)
Loganberry, postharvest | 1
Mango, postharvest | 1
Milk, fat | 0.5
Muskmelon, postharvest | 1
Oat, grain, postharvest | 1
Orange, postharvest | 1
Peach, postharvest | 1
Peanut, postharvest | 1
Pea, postharvest | 1
Pear, postharvest | 1
Pineapple, postharvest | 1
Plum, prune, fresh, postharvest | 1
Potato, postharvest | 0.05
Poultry, fat | 0.2
Poultry, meat byproducts | 0.2
Poultry, meat | 0.2
Raspberry, postharvest | 1
Rice, grain, postharvest | 3
Rye, postharvest | 3
Sheep, fat | 0.1(N)
Sheep, meat byproducts | 0.1(N)
Sheep, meat | 0.1(N)
Sorghum, grain, grain, postharvest | 1
Sweet potato, postharvest | 0.05
Tomato, postharvest | 1
Walnut, postharvest | 1
Wheat, postharvest | 3

(2) Pyrethrins may be safely used in accordance with the following prescribed conditions:

(i) It is used or intended for use in combination with piperonyl butoxide for control of insects:

(A) In cereal grain mills and in storage areas for milled cereal grain products, whereby the amount of pyrethrins is from 10 percent to 100 percent of the amount of piperonyl butoxide in the formulation.

(B) On the outer ply of multiwall paper bags of 50 pounds or more capacity in amounts not exceeding 6 milligrams per square foot, whereby the amount of pyrethrins is equal to 10 percent of the amount of piperonyl butoxide in the formulation. Such treated bags are to be used only for food, dried.

(C) On cotton bags of 50 pounds or more capacity in amounts not exceeding 5.5 milligrams per square foot of cloth, whereby the amount of pyrethrins is equal to 10 percent of the amount of piperonyl butoxide in the formulation. Such treated bags are constructed with waxed paper liners and are to be used only for food, dried that contain 4 percent fat or less.

(D) In two-ply bags consisting of cellophane/polyolefin sheets bound together by an adhesive layer when it is incorporated in the adhesive. The treated sheets shall contain not more than 10 milligrams of pyrethrins per square foot (107.6 milligrams per square meter). Such treated bags are to be used only for packaging plum, prune, dried; grape, raisin; and other fruit, dried, and are to have a maximum ratio of 0.31 milligram of pyrethrins per ounce of fruit (0.01 milligram of pyrethrins per gram of product).

(E) In food processing areas and food storage areas: Provided, That the food is removed or covered prior to such use.

(ii) It is used or intended for use in combination with piperonyl butoxide and N-octylbicycloheptene dicarboximide for insect control in accordance with § 180.367(a)(2).

(iii) A tolerance of 1 part per million is established for residues of pyrethrins in or on:

(A) Grain, cereal, milled fractions when present as a result of its use in cereal grain mills and in storage areas for grain, cereal, milled products.

(B) Food, dried when present as the result of migration from its use on the outer ply of multiwall paper bags of 50 pounds or more capacity.

(C) Food treated in accordance with § 180.367(a)(2).

(D) Food, dried that contain 4 percent fat, or less, when present as a result of migration from its use on the cloth of cotton bags of 50 pounds or more capacity constructed with waxed paper liners.

(E) Food treated in accordance with paragraphs (a)(2)(i)(D) and (a)(2)(i)(E)) of this section.

(iv) To assure safe use of the pesticide, its label and labeling shall conform to that registered with the U.S. Environmental Protection Agency, and it shall be used in accordance with such label and labeling.

(v) Where tolerances are established on both the raw agricultural commodities and food, processed made therefrom, the total residues of pyrethrins in or on the food, processed shall not be greater than that permitted by the larger of the two tolerances.

(3) Pyrethrins may be safely used in accordance with the following prescribed conditions:

(i) It is used or intended for use in combination with piperonyl butoxide for control of insects:

(A) On the outer ply of multiwall paper bags of 50 pounds or more capacity in amounts not exceeding 6 milligrams per square foot.

(B) On cotton bags of 50 pounds or more capacity in amounts not exceeding 5.5 milligrams per square foot of cloth. Such treated bags are constructed with waxed paper liners and are to be used only for feed, dried that contain 4 percent fat or less.

(ii) It is used in combination with piperonyl butoxide, whereby the amount of pyrethrins is equal to 10 percent of the amount of piperonyl butoxide in the formulation. Such treated bags are to be used only for feed, dried.

(iii) A tolerance of 1 part per million is established for residues of pyrethrins when present as the result of migration:

(A) In or on feed, dried from its use on the outer ply of multiwall paper bags of 50 pounds or more capacity.

(B) In or on feed, dried that contain 4 percent fat, or less, from its use on cotton bags of 50 pounds or more capacity constructed with waxed paper liners.

(iv) To assure safe use of the pesticide, its label and labeling shall conform to that registered with the U.S. Environmental Protection Agency.

(v) Where tolerances are established on both raw agricultural commodities and food, processed made therefrom, the total residues of pyrethrins in or on the food, processed shall not be greater than that permitted by the larger of the two tolerances.

(b) Section 18 emergency exemptions. [Reserved]

(c) Tolerances with regional registrations. [Reserved]

(d) Indirect or inadvertent residues. [Reserved]

6. Section 180.145 is revised to read as follows:

§ 180.145 Fluorine compounds; tolerances for residues.

(a) General. (1) Tolerances are established for combined residues of the insecticidal fluorine compounds cryolite and synthetic cryolite (sodium aluminum fluoride) in or on the following agricultural commodities:

Commodity | Parts per million
Apricot | 7
Blackberry | 7
Blueberry | 7
Boysenberry | 7
Broccoli | 7
Brussels sprouts | 7
Cabbage | 7
Cauliflower | 7
Collards | 7
Cranberry | 7
Cucumber | 7
Dewberry | 7
Eggplant | 7
Fruit, citrus | 7
Grape | 7
Kale | 7
Kohlrabi | 7
Lettuce, head | 7
Lettuce, leaf | 7
Loganberry | 7
Melon | 7
Nectarine | 7
Peach | 7
Pepper | 7
Plum, prune, fresh | 7
Pumpkin | 7
Raspberry | 7
Squash, summer | 7
Squash, winter | 7
Strawberry | 7
Tomato | 7
Youngberry | 7

(2) Time-limited tolerances are established for residues of the insecticidal fluorine compounds cryolite and synthetic cryolite (sodium aluminum fluoride) in or on the commodities as follows:

Commodity | Parts per million | Expiration/revocation date
Potato | 2.0 | 11/21/2001
Potato, processed potato waste | 22.0 | 11/21/2001

(3) Tolerances are established for residues of fluoride in or on the following commodities from the postharvest fumigation with sulfuryl fluoride for the control of insects:

Commodity | Parts per million
All processed food commodities not otherwise listed | 70
Barley, bran, postharvest | 45.0
Barley, flour, postharvest | 45.0
Barley, grain, postharvest | 15.0
Barley, pearled barley, postharvest | 45.0
Cattle, meat, dried | 40
Cheese | 5.0
Cacao bean, roasted bean, postharvest | 20
Coconut, postharvest | 40
Coffee, bean, green, postharvest | 15
Corn, field, flour, postharvest | 35.0
Corn, field, grain, postharvest | 10.0
Corn, field, grits, postharvest | 10.0
Corn, field, meal, postharvest | 30.0
Corn, pop, grain, postharvest | 10.0
Cotton, undelinted seed, postharvest | 70
Egg, dried | 900
Fruit, dried , postharvest (other than raisin) | 3.0
Ginger, postharvest | 70
Grain, aspirated fractions, postharvest | 55.0
Grape, raisin, postharvest | 7.0
Hog, meat | 20
Herbs and spices group 19, postharvest | 70
Milk, powdered | 5.0
Millet, grain, postharvest | 40.0
Nut, pine, postharvest | 20
Nut, tree, Group 14, postharvest | 10.0
Oat, flour, postharvest | 75.0
Oat, grain, postharvest | 25.0
Oat, groats/rolled oats | 75.0
Peanut, postharvest | 15
Pistachio, postharvest | 10.0
Rice, bran, postharvest | 31.0
Rice, flour, postharvest | 45
Rice, grain, postharvest | 12.0
Rice, hulls, postharvest | 35.0
Rice, polished rice, postharvest | 25.0
Rice, wild, grain, postharvest | 25.0
Sorghum, grain, postharvest | 40.0
Triticale, grain, postharvest | 40.0
Vegetable, legume, group 6, postharvest | 70
Wheat, bran, postharvest | 40.0
Wheat, flour, postharvest | 125.0
Wheat, germ, postharvest | 130.0
Wheat, grain, postharvest | 40.0
Wheat, milled byproducts, postharvest | 130.0
Wheat, shorts, postharvest | 40.0

(b) Section 18 emergency exemptions. [Reserved]

(c) Tolerances with regional registrations. Tolerances with regional registration, as defined by § 180.1(n), are established for the combined residues of the insecticidal fluorine compounds, cryolite and synthetic cryolite (sodium aluminum fluoride), in or on the following raw agricultural commodities:

Commodity | Parts per million
Kiwifruit | 15

(d) Indirect or inadvertent residues. [Reserved]

7. In § 180.206 in the table to paragraph (a) revise the entry for “Coffee bean¹” and footnote 1 to read as follows:

§ 180.206 Phorate; tolerances for residues.

(a) * * *

Commodity | Parts per million
* * * * *
Coffee, bean, green¹ | 0.02
* * * * *
¹There are no U.S. registrations as of September 1, 1993 for coffe, bean, green.

* * * * *

8. In § 180.225 by revising paragraph (a)(3) to read as follows:

§ 180.225 Phosphine; tolerances for residues.

(a) * * *

(3) Residues resulting from fumigation of processed food:

Commodity | Parts per million
Processed food | 0.01

* * * * *

§ 180.268 [Removed]

9. Remove § 180.268.

10. In § 180.291 by revising paragraph (a) to read as follows:

§ 180.291 Pentachloronitrobenzene; tolerance for residues.

(a) A tolerance of 0.1 part per million is established for negligible residues of the fungicide pentachloronitrobenzene in or on the raw agricultural commodity cotton, undelinted seed.

* * * * *

11. In § 180.293 by revising paragraph (a)(2) to read as follows:

§ 180.293 Endothall; tolerances for residues.

(a) * * *

(2) An interim tolerance of 0.2 parts per million is established for residues of the herbicide endothall (7 - oxabicyclo[2.2.1] heptane-2,3-dicarboxylic acid) in water, potable from use of its potassium, sodium, di-N, N-dimethylalkylamine, and mono-N-N,-dimethylalkylamine salts as algicides or herbicides to control aquatic plants in canals, lakes, ponds, and other potential sources of water, potable.

* * * * *

12. Section 180.319 is revised to read as follows:

§ 180.319 Interim tolerances.

While petitions for tolerances for negligible residues are pending and until action is completed on these petitions, interim tolerances are established for residues of the listed pesticide chemicals in or on the following raw agricultural commodities:

Substances | Uses | Tolerance in parts per million | Raw agricultural commodity
Carbaryl (1-naphthyl N-methylcarbamate and its metabolite 1-naphthol, calculated as carbaryl | Insecticide | 0.5 | Egg
Coordination product of zinc ion and maneb | Fungicide | 1.0 (Calculated as zinc ethylenebisdithiocarbamate) | Potato
Endothall (7-oxabicyclo-(2,2,1) heptane 2,3- dicarboxylic acid) | Herbicide | 0.2 | Beet, sugar
Isopropyl carbanilate (IPC) | Herbicide | 5.0 | Alfalfa, hay; clover, hay; and grass, hay
|  | 2.0 | Alfalfa, forage; clover, forage; and grass, forage
|  | 0.1 | Flax, seed; lentil; lettuce, head and lettuce, leaf; pea; safflower, seed; spinach; and beet, sugar, roots and beet, sugar, tops
|  | 0.5 | Egg; cattle, fat; cattle meat; cattle, meat byproducts; goat, fat; goat, meat; goat, meat byproducts; hog, fat; hog, meat; hog, meat byproducts; horse, fat; horse, meat; horse, meat byproducts; milk; sheep, fat; sheep meat; sheep, meat byproducts; poultry, fat; poultry, meat; poultry, meat byproducts
Isopropyl m-chlorocarbanilate (CIPC). | Herbicide | 0.05 | Milk; cattle, fat; cattle, meat; cattle, meat byproducts; goat, fat; goat, meat; goat, meat byproducts; hog, fat; hog, meat; hog, meat byproducts; horse, fat; horse, meat; horse, meat byproducts; sheep, fat; sheep meat; sheep, meat byproducts
Parathion (O,O-diethyl-O-p-nitrophenythiophosphate) or its methyl homolog | Herbicide | 0.5 | Rye
Pentachloronitrobenzene | Fungicide | 1.0 | Peanut
|  | 0.1 | Bean, broccoli, Brussels sprouts, cabbage, cauliflower, garlic, pepper, potato, and tomato

13. Section 180.342 is amended by revising the introductory text of paragraph (a)(4) to read as follows:

§ 180.342 Chlorpyrifos; tolerances for residues.

(a) * * *

(4) A tolerance of 0.1 part per million is established for residues of chlorpyrifos, per se, in or on food commodities (other than those already covered by a higher tolerance as a result of use on growing crops) in food service establishments where food and food products are prepared and served, as a result of the application of chlorpyrifos in microencapsulated form.

* * * * *

§ 180.364 [Amended]

14. In § 180.364, amend the table to paragraph (a) by removing the entry for “Peanut, forage”.

15. In § 180.379, paragraph (a)(2)(i) is revised to read as follows:

§ 180.379 Cyano(3-phenoxyphenyl)methyl-4-chloro-α-(1-methylethyl) benzeneacetate; tolerances for residues.

(a) * * *

(2) * * *

(i) In or on food commodities (other than those already covered by a higher tolerance as a result of use on growing crops) in food-handling establishments where food products are held, processed, or prepared.

* * * * *

§ 180.399 [Amended]

16. In § 180.399, in the table to paragraph (a)(1) by removing the entry for “Peanut hay”.

17. In § 180.422, by revising paragraph (a)(2)(i) to read as follows:

§ 180.422 Tralomethrin; tolerances forresidues.

(a) * * *

(2) * * *

(i) In or on food commodities (other than those covered by a higher tolerance as a result of use on growing crops) in food-handling establishments.

* * * * *

18. By revising § 180.438 to read as follows:

§ 180.438 Lambda-cyhalothrin and an isomer gamma-cyhalothrin; tolerances for residues.

(a) General. (1) Tolerances are established for the combined residues of the pyrethroid lambda-cyhalothrin, 1:1 mixture of (S)-α-cyano-3-phenoxybenzyl-(Z)-(1R,3R)-3-(2-chloro-3,3,3-trifluoroprop-1-enyl)-2,2-dimethylcyclopropanecarboxylate and (R)-α-cyano-3-phenoxybenzyl-(Z)-(1S,3S)-3-(2-chloro-3,3,3-trifluoroprop-1-enyl)-2,2-dimethylcyclopropanecarboxylate and its epimer expressed as epimer of lambda-cyhalothrin, a 1:1 mixture of (S)-α-cyano-3-phenoxybenzyl-(Z)-(1S,3S)-3-(2-chloro-3,3,3-trifluoroprop-1-enyl)-2,2-dimethylcyclopropanecarboxylate and (R)-α-cyano-3-phenoxybenzyl-(Z)-(1R,3R)-3-(2-chloro-3,3,3-trifluoroprop-1-enyl)-2,2-dimethylcyclopropanecarboxylate, on plants and livestocks, as indicated in the following table.

Commodity | Parts per million
Alfalfa, forage | 5.0
Alfalfa, hay | 6.0
Almond, hulls | 1.5
Apple, wet pomace | 2.50
Avocado, imported | 0.20
Brassica, head and stem, subgroup 5A | 0.4
Canola, refined oil | 2.0
Canola, seed | 1.0
Cattle, fat | 3.0
Cattle, meat | 0.2
Cattle, meat byproducts | 0.2
Corn, field, grain | 0.05
Corn, field, grain, flour | 0.15
Corn, field, forage | 6.0
Corn, field, stover | 1.0
Corn, pop, grain | 0.05
Corn, pop, grain, flour | 0.05
Corn, pop, stover | 1.0
Corn, sweet, forage | 6.0
Corn, sweet, stover | 1.0
Corn, sweet, kernel plus cob with husks removed | 0.05
Cotton, undelinted seed | 0.05
Egg | 0.01
Fruit, pome, group 11 | 0.30
Fruit, stone, group 12 | 0.50
Garlic | 0.1
Goat, fat | 3.0
Goat, meat | 0.2
Goat, meat byproducts | 0.2
Grain, aspirated fractions | 2.0
Hog, fat | 3.0
Hog, meat | 0.2
Hog, meat byproducts | 0.2
Hop, dried cones | 10.0
Horse, fat | 3.0
Horse, meat | 0.2
Horse, meat byproducts | 0.2
Lettuce, head | 2.0
Lettuce, leaf | 2.0
Milk, fat (reflecting 0.2 ppm in whole milk) | 5.0
Nut, tree, group 14 | 0.05
Onion, bulb | 0.1
Pea and bean, dried shelled, except soybean, subgroup 6C | 0.10
Pea and bean, succulent shelled, subgroup 6B | 0.01
Peanut | 0.05
Peanut, hay | 3.0
Poultry, fat | 0.03
Poultry, meat | 0.01
Poultry, meat byproducts | 0.01
Rice, grain | 1.0
Rice, hulls | 5.0
Rice, straw | 1.8
Sheep, fat | 3.0
Sheep, meat | 0.2
Sheep, meat byproducts | 0.2
Soybean | 0.01
Sorghum, grain, grain | 0.2
Sorghum, grain, forage | 0.30
Sorghum, grain, stover | 0.50
Sugarcane, cane | 0.05
Sunflower, forage | 0.2
Sunflower, seed, hulls | 0.50
Sunflower, refined oil | 0.30
Sunflower, seed | 0.2
Tomato | 0.1
Tomato, dry pomace | 6.0
Tomato, wet pomace | 6.0
Vegetables, fruiting, group 8 | 0.20
Vegetables, legume, edible podded, subgroup 6A | 0.20
Wheat, grain | 0.05
Wheat, forage | 2.0
Wheat, hay | 2.0
Wheat, straw | 2.0
Wheat, bran | 0.2

(2) Tolerances¹ are established for the combined residues of the pyrethroid [gamma-cyhalothrin (the isolated active isomer of lambda-cyhalothrin) (S)-′-cyano-3-phenoxybenzyl (Z)-(1R,3R)-3-(2-chloro-3,3,3-trifluoroprop-1-enyl)-2,2-dimethylcyclopropanecarboxylate)) and its epimer (R)-′-cyano-3-phenoxybenzyl (Z)-(1R,3R)-3-(2-chloro-3,3,3-trifluoroprop-1-enyl)-2,2-dimethylcyclopropanecarboxylate in/on the following commodities:

Commodity | Parts per million
Alfalfa, forage | 5
Alfalfa, hay | 6
Almond, hulls | 1.5
Apple, wet pomace | 2.50
Avocado, imported | 0.20
Brassica, head and stem, subgroup 5A | 0.4
Canola, seed | 0.15
Cattle, fat | 3
Cattle, meat | 0.2
Cattle, meat byproducts | 0.2
Corn, field, forage | 6.0
Corn, field, grain | 0.05
Corn, field, grain, flour | 0.15
Corn, field, stover | 1.0
Corn, pop, grain | 0.05
Corn, pop, stover | 1.0
Corn, sweet, forage | 6.0
Corn, sweet, kernel plus cob with husks removed | 0.05
Corn, sweet, stover | 1.0
Cotton, undelinted seed | 0.05
Egg | 0.01
Fruit, pome, group 11 | 0.30
Fruit, stone, group 12 | 0.50
Garlic | 0.10
Goat, fat | 3.0
Goat, meat | 0.2
Goat, meat byproducts | 0.2
Grain, aspirated fractions | 2.0
Hog, fat | 3.0
Hog, meat | 0.2
Hog, meat byproducts | 0.2
Horse, fat | 3.0
Horse, meat | 0.2
Horse, meat byproducts | 0.2
Lettuce, head | 2.0
Lettuce, leaf | 2.0
Milk, fat (reflecting 0.20 ppm in whole milk | 5.0
Nut, tree, group 14 | 0.05
Onion, bulb | 0.1
Pea and bean, dried shelled, except soybean, subgroup 6C | 0.10
Pea and bean, succulent shelled, subgroup 6B | 0.01
Peanut | 0.05
Peanut, hay | 3.0
Poultry, fat | 0.03
Poultry, meat | 0.01
Poultry, meat byproducts | 0.01
Rice, grain | 1.0
Rice, hulls | 5.0
Rice, straw | 1.8
Sheep, fat | 3.0
Sheep, meat | 0.2
Sheep, meat byproducts | 0.2
Sorghum, grain, forage | 0.30
Sorghum, grain, grain | 0.20
Sorghum, grain, stover | 0.50
Soybean | 0.01
Sugarcane | 0.05
Sunflower, forage | 0.20
Sunflower, seed hulls | 0.50
Sunflower, refined oil | 0.30
Sunflower, seed | 0.20
Tomato | 0.10
Tomato, dry pomace | 6.0
Tomato, wet pomace | 6.0
Vegetables, fruiting, group 8 | 0.20
Vegetable, legume, edible podded, subgroup 6A | 0.20
Wheat, grain | 0.05
Wheat, forage | 2.0
Wheat, hay | 2.0
Wheat, straw | 2.0
Wheat, bran | 2.0
¹ The analytical enforcement methods for lambda-cyhalothrin are applicable for determination of gamma-cyhalothrin residues in plant and animal commodities.

(3) A food additive tolerance of 0.01 part per million is established for residues of the insecticide [1α(S*),3α(Z)]-(±)-cyano(3-phenoxyphenyl)methyl 3-(2-chloro-3,3,3-trifluoro-1-propenyl)-2,2-dimethylcyclopropanecarboxylate (lambda-cyhalothrin) as follows:

(i) In or on all food commodities (other than those already covered by a higher tolerance as a result of use on growing crops) in food-handling establishments where food products are held, processed, or prepared.

(ii) Application shall be limited solely to spot and/or crack and crevice treatment with a spray solution maximum of a 0.06-percent active ingredient by weight. Food must be removed or covered during treatment. Spray should not be applied directly to surfaces or utensils that may come into contact with food. Food-contact surfaces and equipment should be thoroughly cleaned with an effective cleaning compound and rinsed with potable water before using.

(iii) For spot treatment, a coarse low-pressure spray shall be used. Limit individual spot treatments to an area no larger than 20 percent of the surface area. Any individual spot treatment shall not exceed 2 square feet.

(iv) For crack and crevice treatment, equipment capable of delivering a pin-stream of spray directly into the cracks and crevices shall be used.

(v) To assure safe use of the additive, its label and labeling shall conform to that registered with the U.S. Environmental Protection Agency, and it shall be used in accordance with such label and labeling.

(b) Section 18 emergency exemptions. Time-limited tolerances are established for combined residues of the insecticide lambda-cyhalothrin (a 1:1 mixture of (S)-α-cyano-3-phenoxybenzyl-(Z)-(1R,3R)-3-(2-chloro-3,3,3-trifluoroprop-1-enyl)-2,2-dimethylcyclopropanecarboxylate and (R)-α-cyano-3-phenoxybenzyl-(Z)-(1S,3S)-3-(2-chloro-3,3,3-trifluoroprop-1-enyl)-2,2-dimethylcyclopropanecarboxylate and its epimer a 1:1 mixture of (S)-α-cyano-3-phenoxybenzyl-(Z)-(1S,3S)-3-(2-chloro-3,3,3-trifluoroprop-1-enyl)-2,2-dimethylcyclopropanecarboxylate and (R)-α-cyano-3-phenoxybenzyl -(Z)-(1R,3R)-3-(2-chloro-3,3,3-trifluoroprop-1-enyl)-2,2-dimethylcyclo-propanecarboxylate in connection with use of the pesticide under section 18 emergency exemptions granted by EPA. The tolerances will expire and are revoked on the dates specified in the following table:

Commodity | Parts per million | Expiration/revocation date
Barley, bran | 0.2 | 12/31/08
Barley, grain | 0.05 | 12/31/08
Barley, hay | 2.0 | 12/31/08
Barley, straw | 2.0 | 12/31/08
Clover, forage | 5.0 | 12/31/08
Clover, hay | 6.0 | 12/31/08
Grass, forage | 5.0 | 12/31/08
Grass, hay | 6.0 | 12/31/08
Rice, wild, grain | 1.0 | 12/31/08

(c) Tolerances with regional registrations. [Reserved]

(d) Indirect or inadvertent residues. [Reserved]

§ 180.484 [Amended]

19. In § 180.484, in the table to paragraph (a)(1) by removing the entry for “Sheep, milk.”

20. In § 180.501, by revising the introductory text of paragraph (a) to read as follows:

§ 180.501 Hydroprene; tolerances for residues.

(a) General. A tolerance of 0.2 part per million is established for residues of hydroprene [(S)-(Ethyl (2E,4E,7S)-3,7,11-trimrthyl-2,4-dodecadienoate)], (CAS Reg. No. 65733-18-8) on food commodities in food-handling establishments in accordance with the following prescribed conditions:

* * * * *

21. In § 180.519 by revising the introductory text of paragraph (a) to read as follows:

§ 180.519 Bromide ion and residual bromine; tolerances for residues.

(a) General. The food additives, bromide ion and residual bromine, may be present in water, potable in accordance with the following conditions:

* * * * *

22. Section 180.522 is revised to read as follows:

§ 180.522 Fumigants for processed grains used in production of fermented malt beverage; tolerances for residues.

(a) General. Fumigants for processed grain may be safely used, in accordance with the following conditions.

(1) Methyl bromide. Total residues of inorganic bromides (calculated as Br) from the use of this fumigant shall not exceed 125 parts per milion.

(2) Methyl bromide is used to fumigate corn grits and cracked rice in the production of fermented malt beverage.

(3) To assure safe use of the fumigant, its label and labeling shall conform to the label and labeling registered by the U.S. Environmental Protection Agency, and the usage employed should conform with such label or labeling.

(4) The total residue of inorganic bromides in fermented malt beverage, resulting from the use of corn grits and cracked rice fumigated with the fumigant described in paragraph (a)(2) of this section plus additional residues of inorganic bromides that may be present from uses in accordance with other regulations in this chapter promulgated under section 408 and/or 409 of the Act, does not exceed 25 parts per million bromide (calculated as Br).

(b) Section 18 emergency exemptions. [Reserved]

(c) Tolerances with regional registrations. [Reserved]

(d) Indirect or inadvertent residues. [Reserved]

23. Section 180.525 is revised to read as follows:

§ 180.525 Resmethrin; tolerances for residues.

(a) General. Tolerances are established for residues of the insecticide resmethrin [5-(phenylmethyl)-3-furanyl] methyl 2,2-dimethyl-3-(2-methyl-1-propenyl) cyclopropanecarboxylate in or on food commodities at 3.0 ppm resulting from use of the insecticide in food handling and storage areas as a space concentration for spot/or crack and crevice treatment and shall be limited to a maximum of 3.00 percent of the active ingredient by weight, and as a space treatment shall be limited to a maximum of 0.5 fluid ounce of 3.0 percent active ingredient by weight per 1000 cubic feet of space provided that the food is removed or covered prior to such use. To assure safe use of the additive, its label and labeling shall conform to that registered with the U.S. Environmental Protection Agency, and shall be used in accordance with such label and labeling.

(b) Section 18 emergency exemptions. [Reserved]

(c) Tolerances with regional registrations. [Reserved]

(d) Indirect or inadvertent residues. [Reserved]

24. By revising § 180.538 to read as follows:

§ 180.538 Copper; tolerances for residues.

(a) General. A tolerance of 1 part per million is established in water, potable for residues of copper resulting from the use of the algicides or herbicides basic copper carbonate (malachite), copper sulfate, copper monoethanolamine, and copper triethanolamine to control aquatic plants in reservoirs, lakes, ponds, irrigation ditches, and other potential sources of potable water.

(b) Section 18 emergency exemptions. [Reserved]

(c) Tolerances with regional registrations. [Reserved]

(d) Indirect or inadvertent residues. [Reserved]

25. In § 180.545 paragraph (a)(2) is revised to read as follows:

§ 180.545 Prallethrin (RS)-2-methyl-4-oxo-3-(2-propynyl)cyclopent-2-enyl (1RS)-cis, trans-chrysanthemate; tolerances for residues.

(a) * * *

(2) In or on food commodities in food handling establishments where food and food products are held, processed, prepared and/or served.

* * * * *

[FR Doc. E6-21025 Filed 12-12-06; 8:45 am]

BILLING CODE 6560-50-S